CONSUMER PRODUCT SAFETY COMMISSION

Petition Requesting Performance Standard for Bicycle Handlebars

AGENCY: Consumer Product Safety Commission.

ACTION: Notice.

SUMMARY: The Commission has received a petition (HP 01-1) requesting that the Commission issue a performance standard for bicycle handlebars regarding energy dissipation and distribution during impact. The Commission solicits written comments concerning the petition.

DATES: The Office of the Secretary must receive comments on the petition by April 16, 2001.

ADDRESSES: Comments on the petition, preferably in five copies, should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by email to cpsc-os@cpsc.gov. Comments should be captioned “Petition HP 01-1, Petition for Bicycle Handlebar Performance Standard.” A copy of the petition is available for inspection at the Commission's Public Reading Room, Room 419, 4330 East-West Highway, Bethesda, Maryland.

FOR FURTHER INFORMATION CONTACT: Rockelle Hammond, Office of the Secretary, Consumer Product Safety Commission, Washington, D.C. 20207; telephone (301) 504-0800, ext. 1232.

SUPPLEMENTARY INFORMATION: The Commission has received correspondence from Flaura Koplin Winston, MD. Ph.D., Director, The Interdisciplinary Pediatric Injury Control Research Center, Children's Hospital of Philadelphia, requesting that the Commission issue a rule prescribing performance standards for bicycle handlebars regarding energy dissipation and distribution during impact. The petitioner asserts that bicycle handlebars that cannot satisfy such criteria pose a serious risk of pancreatic, intestinal, renal, liver, and splenic injuries, particularly to young children. She argues that such serious injuries occur in the setting of minor incidents—falls from bicycles not involving motor vehicle crashes—and that the serious nature of the injuries suggests that the cause of the injury is the bicycle itself. She further asserts that the bicycle handlebars act as blunt spears and cause the injuries on impact.

The petitioner maintains that handlebars can be designed that will dissipate the impact energy and spread the forces over a larger surface area so that forces transmitted by the end of the handlebar to the abdominal organs during impact are reduced to below known injury tolerance levels. The petitioner bases her conclusions on several studies of serious injury incidents to child bicyclists spanning 30+ years.

The Commission is docketing the correspondence as a petition under provisions of the Federal Hazardous Substances Act (“FHSA”), 15 U.S.C. 1261-1278. Handlebars are addressed in § 1512.6 of the existing Commission standard for bicycles at 16 CFR Part 1512, that was promulgated under authority of the FHSA. The current version of § 1512.6 does not specifically address the risk of injury noted in the petition.

Interested parties may obtain a copy of the petition by writing or calling the Office of the Secretary, Consumer Product Safety Commission, Washington, DC 20207; telephone (301) 504-0800. A copy of the petition is also available for inspection from 8:30 a.m. to 5 p.m., Monday through Friday, in the Commission's Public Reading Room, Room 419, 4330 East-West Highway, Bethesda, Maryland.

Dated: February 8, 2001.
Sadye E. Dunn,
Secretary, Consumer Product Safety Commission.

[FR Doc. 01-3666 Filed 2-13-01; 8:45 am]

BILLING CODE 6355-01-P